DEPARTMENT OF STATE

[Public Notice 3753]

Culturally Significant Objects Imported for Exhibition; Determinations: “Treasury of the World”: Jeweled Arts of India in the Age of the Mughals

AGENCY: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended, I hereby determine that the objects to be included in the exhibit “Treasury of the World”: Jeweled Arts of India in the Age of the Mughals, imported from abroad for the temporary exhibition without profit within the United States, are of cultural significance. These objects will be imported pursuant to a loan agreement with a foreign lender. I also determine that the temporary exhibition or display of the exhibit objects at the Metropolitan Museum of Art, New York, NY, from on or about October 15, 2001, to on or about January 13, 2002; the Cleveland Museum of Art, Cleveland, OH, from on or about February 24, 2002, to on or about May 19, 2002; the Museum of Fine Arts, Houston, TX, from on or about June 30, 2002, to on or about October 27, 2002, and possible additional venues yet to be determined, is in the national interest. Public Notice of these determinations is ordered to be published in the Federal Register.

FOR FURTHER INFORMATION CONTACT: For further information, including a list of exhibit objects, contact Julianne Simpson, Attorney-Adviser, Office of the Legal Adviser, U.S. Department of State (telephone: 202/619-6529). The address is U.S. Department of State, SA-44, 301 4th Street, SW., Room 700, Washington, DC 20547-0001.

Dated: August 6, 2001.
Brian J. Sexton,
Deputy Assistant Secretary for Professional Exchanges, Bureau of Educational and Cultural Affairs, U.S. Department of State.

[FR Doc. 01-20285 Filed 8-10-01; 8:45 am]

BILLING CODE 4710-08-P